DEPARTMENT OF HEALTH AND HUMAN SERVICES

National Institutes of Health

National Cancer Institute, Notice of Closed Meeting.

Pursuant to section 10(d) of the Federal Advisory Committee Act, as amended (5 U.S.C. Appendix 2), notice is hereby given of a meeting of the President's Cancer Panel.

The meeting will be closed to the public in accordance with the provisions set forth in section 552b(c)(9)(B), Title 5 U.S.C., as amended because the premature disclosure of other and the discussions would likely to significantly frustrate implementation of recommendations.

Name of Committee: President's Cancer Panel.

Date: October 26, 2000.

Time: 4 pm to 6 pm.

Agenda: To review and evaluate other.

Place: National Institutes of Health, 31 Center Drive, Building 31, Room 4A48, Bethesda, MD 20892-2473 (Telephone Conference Call).

Contact Person: Maureen O. Wilson, Phd, Executive Secretary, National Cancer Institute, National Institutes of Health, 31 Center Drive, Building 31, Room 4A48, Bethesda, MD 20892, 301/496-1148.

This notice is being published less than 15 days to the meeting due to scheduling conflicts.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Dated: October 25, 2000.
LaVerne Stringfield,
Director, Office of Federal Advisory Committee Policy.

[FR Doc. 00-28104 Filed 11-1-00; 8:45 am]

BILLING CODE 4140-01-M